DEPARTMENT OF COMMERCE

International Trade Administration

[A-570-929]

Small Diameter Graphite Electrodes From the People's Republic of China: Notice of Partial Rescission of Antidumping Duty Administrative Review; 2016-2017

AGENCY: Enforcement and Compliance, International Trade Administration, Commerce.

SUMMARY: On April 10, 2017, The Department of Commerce (the Department) published a notice of initiation of an administrative review of the antidumping duty order on small diameter graphite electrodes from the People's Republic of China (PRC). Based on the timely withdrawal of the requests for review of certain companies, we are now rescinding this administrative review for the period February 1, 2016 through January 31, 2017 with respect to 191 companies.

DATES: Effective June 6, 2017.

FOR FURTHER INFORMATION CONTACT: Dennis McClure or John Anwesen, AD/CVD Operations, Office VIII, Enforcement and Compliance, International Trade Administration, U.S. Department of Commerce, 1401 Constitution Avenue NW., Washington, DC 20230; telephone: (202) 482-5973 or (202) 482-0131, respectively.

SUPPLEMENTARY INFORMATION:

Background

On February 8, 2017, the Department published a notice of opportunity to request an administrative review of the antidumping duty order on small diameter graphite electrodes from the PRC for the period of review (POR) February 1, 2016, through January 31, 2017.¹

¹ See Antidumping or Countervailing Duty Order, Finding, or Suspended Investigation; Opportunity to Request Administrative Review, 82 FR 9709 (February 8, 2017).

On February 28, 2017, SGL Carbon LLC and Superior Graphite Co. (the petitioners) requested an administrative review of the order for 194 producers and/or exporters of the subject merchandise.² On April 10, 2017, in accordance with section 751(a) of the Tariff Act of 1930, as amended (the Act) and 19 CFR 351.221(c)(1)(i), we initiated an administrative review of the order on small diameter graphite electrodes from the People's Republic of China with respect to 194 companies.³ On April 21, 2017, the petitioners withdrew their request for an administrative review for 191 out of 194 companies.⁴ See the Initiation Notice for the full list of companies for which the Department initiated a review. No other party requested an administrative review of this order.

² See the petitioners' submission, “Small Diameter Graphite Electrodes from the People's Republic of China—Request for Initiation of Antidumping Administrative Review,” dated February 28, 2017.

³ See Initiation of Antidumping and Countervailing Duty Administrative Reviews, 82 FR 17188 (April 10, 2017) (Initiation Notice).

⁴ See the petitioners' submission, “Small Diameter Graphite Electrodes from the People's Republic of China—Petitioners' Withdrawal of Certain Requests for Review and Respondent Selection Comments,” dated April 20, 2017.

Partial Rescission of Review

Pursuant to 19 CFR 351.213(d)(1), the Department will rescind an administrative review, in whole or in part, if the party that requested the review withdraws its request within 90 days of the publication of the notice of initiation of the requested review. In this case, the petitioners timely withdrew their review request, in part, by the 90-day deadline, and no other party requested an administrative review of the antidumping duty order. Therefore, we are rescinding the administrative review of the antidumping duty order on small diameter graphite electrodes from the PRC for the period February 1, 2016, through January 31, 2017, with respect to the 191 for which all review requests were withdrawn. The review will continue with respect to the remaining three companies: (1) Fangda Group; ⁵ (2) Fushun Jinly Petrochemical Carbon Co., Ltd.; and (3) Xuzhou Jianglong Carbon Products Co., Ltd.

⁵ The Fangda Group consists of Beijing Fangda Carbon Tech Co., Ltd., Chengdu Rongguang Carbon Co., Ltd., Fangda Carbon New Material Co., Ltd., Fushun Carbon Co., Ltd., and Hefei Carbon Co., Ltd.

Assessment

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

Notification Regarding Administrative Protective Orders

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a violation which is subject to sanction.

We intend to issue and publish this notice in accordance with sections 751(a)(1) and 777(i)(1) of the Act, and 19 CFR 351.213(d)(4).

Dated: May 31, 2017.
Gary Taverman,
Deputy Assistant Secretary for Antidumping and Countervailing Duty Operations.

[FR Doc. 2017-11670 Filed 6-5-17; 8:45 am]

BILLING CODE 3510-DS-P